Title 3—

The President

Proclamation 8247 of April 29, 2008

Asian/Pacific American Heritage Month, 2008

By the President of the United States of America

A Proclamation

Americans who trace their ancestry to Asia and the Pacific Islands have contributed much to our Nation. During Asian/Pacific American Heritage Month, we highlight their importance to our great Nation.

Asian/Pacific Americans have made our country better with their talents and hard work. Their values and commitment to family and community have helped shape and strengthen America. These citizens speak many languages, honor countless traditions, and practice different faiths, but they are bound by a shared commitment to freedom and liberty. The diversity among Asian/Pacific Americans adds to the cultural fabric of our society.

Asian/Pacific Americans have enriched our culture, excelling in many fields, including education, business, science, technology, government, sports, and the arts. We especially honor those Asian/Pacific Americans who have answered the call to protect the cause of freedom by serving in our Armed Forces. These brave men and women set a powerful example for all Americans.

As we celebrate Asian/Pacific American Heritage Month, we are reminded of the richness of the Asian and Pacific cultures. Asian/Pacific Americans enhance the American experience and contribute to our country's legacy of diversity.

To honor the achievements and contributions of Asian/Pacific Americans, the Congress, by Public Law 102-450, as amended, has designated the month of May each year as “Asian/Pacific American Heritage Month.”

NOW, THEREFORE, I, GEORGE W. BUSH, President of the United States of America, do hereby proclaim May 2008 as Asian/Pacific American Heritage Month. I call upon the people of the United States to learn more about the history of Asian/Pacific Americans and their many contributions to our Nation and to observe this month with appropriate programs and activities.

IN WITNESS WHEREOF, I have hereunto set my hand this twenty-ninth day of April, in the year of our Lord two thousand eight, and of the Independence of the United States of America the two hundred and thirty-second.

[FR Doc. 08-1208

Filed 4-30-08; 11:26 am]

Billing code 3195-01-P